DEPARTMENT OF ENERGY

Bonneville Power Administration

Electrical Interconnection of the Summit/Westward Project

AGENCY: Bonneville Power Administration (BPA), Department of Energy (DOE).

ACTION: Notice of availability of Record of Decision (ROD).

SUMMARY: This notice announces the availability of the ROD to offer contract terms for interconnection of the proposed Summit/Westward Project into the Federal Columbia River Transmission System at BPA's Allston Substation. This decision is consistent with BPA's Business Plan Final Environmental Impact Statement (DOE/EIS-0183, June 1995) and the Business Plan ROD (August 1995). The project is proposed by Westward Energy, LLC, and involves construction and operation of a 520-megawatt natural-gas-fired, combined-cycle generating facility to be located in Columbia County, Oregon, about 4.5 miles north of Clatskanie, Oregon.

ADDRESSEs: Copies of the ROD and EIS may be obtained by calling BPA's toll-free document request line, 1-800-622-4520. The ROD and EIS Summary are also available on our Web site, www.efw.bpa.gov.

FOR FURTHER INFORMATION, CONTACT: Dawn Boorse, Bonneville Power Administration—KEC-4, P.O. Box 3621, Portland, Oregon, 97208-3621; toll-free telephone number 1-800-282-3713; direct telephone number 503-230-5678; fax number 503-230-5699; or e-mail drboorse@bpa.gov.

Issued in Portland, Oregon, on July 25, 2003.
Stephen J. Wright,
Administrator and Chief Executive Officer.

[FR Doc. 03-19709 Filed 8-1-03; 8:45 am]

BILLING CODE 6450-01-U